DEPARTMENT OF DEFENSE

Office of the Secretary

[Docket ID: DoD-2025-OS-0542]

Submission for OMB Review; Comment Request

AGENCY: The Under Secretary of Defense for Acquisition and Sustainment (USD(A&S)), Department of Defense (DoD).

ACTION: 30-Day information collection notice.

SUMMARY: The DoD has submitted to the Office of Management and Budget (OMB) for clearance the following proposal for collection of information under the provisions of the Paperwork Reduction Act.

DATES: Consideration will be given to all comments received by December 26, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Technical Assistance for Public Participation Application; DD Form 2749; OMB Control Number 0704-0392.

Type of Request: Individuals or households.

Number of Respondents: 25.

Responses per Respondent: 2.

Annual Responses: 50.

Average Burden per Response: 4 hours.

Annual Burden Hours: 200.

Needs and Uses: The information collection requirement is necessary to identify products or services requested by community members of restoration advisory boards or technical review committees to aid in their participation in the DoD's environmental restoration program, and to meet Congressional reporting requirements.

Affected Public: Individuals or households.

Frequency: As required.

Respondent's Obligation: Voluntary.

DOD Clearance Officer: Mr. Reginald Lucas.

Dated: November 21, 2025.
Stephanie J. Bost,
Alternate OSD Federal Register Liaison Officer, Department of Defense.

[FR Doc. 2025-21158 Filed 11-25-25; 8:45 am]

BILLING CODE 6001-FR-P